DEPARTMENT OF AGRICULTURE

Forest Service

Notice of New Fee Site; Federal Lands Recreation Enhancement Act, (Title VIII, Pub. L. 108-447)

AGENCY: Rio Grande National Forest, USDA Forest Service.

ACTION: Notice of New Fee Site—Fitton Guard Station, Off Cow Camp Cabin.

SUMMARY: The Rio Grande National Forest is proposing to charge a $25.00 fee for the overnight rental of Fitton Guard Station and Off Cow Camp Cabin. These cabins have not been available for recreation use prior to this date. Rentals of other cabins on the Rio Grande National Forest have shown that people appreciate and enjoy the availability of historic rental cabins. Funds from the rental will be used for the continued operation and maintenance of rental cabins on the Rio Grande National Forest. This fee is only proposed and will be determined upon further analysis and public comment.

DATES: Send any comments about these fee proposals by June 15, 2011 so comments can be compiled and analyzed. Fitton Guard Station and Off Cow Camp Cabin will become available for recreation rental summer of 2011.

ADDRESSES: Dan S. Dallas, Forest Supervisor, Rio Grande National Forest, 18803 W. Highway 160, Monte Vista, CO 8114403.

FOR FURTHER INFORMATION CONTACT: Steve Brigham, Natural Resource Specialist or Ronnie Day, Visitor Information Specialist at 719 657-3321.

SUPPLEMENTARY INFORMATION: The Federal Recreation Lands Enhancement Act (Title VII, Pub. L. 108-447) directed the Secretary of Agriculture to publish a six month advance notice in the Federal Register whenever new recreation fee areas are established.

This new fee will be reviewed by the Colorado Recreation Resource Advisory Committee prior to a final decision and implementation.

The Rio Grande National Forest currently has eight other cabin rentals. These rentals are often fully booked throughout their rental season. A business analysis of both Fitton Guard Station and Off Cow Camp Cabin has shown that people desire having this sort of recreation experience on the Rio Grande National Forest. A market analysis indicates that the $25.00 per night fee is both reasonable and acceptable for this sort of unique recreation experience.

People wanting to rent either the Fitton Guard Station or Off Cow Camp Cabin will need to do so through the National Recreation Reservation Service, at http://www.reserveusa.com or by calling 1-877-444-6777. The National Recreation Reservation Service charges a $9 fee for reservations.

Dated: December 13, 2010.
Dan S. Dallas,
Rio Grande National Forest Supervisor.

[FR Doc. 2010-32304 Filed 12-22-10; 8:45 am]

BILLING CODE 3410-11-P